DEPARTMENT OF TRANSPORTATION

Maritime Administration

46 CFR Part 296

[Docket No. MARAD-2006-23804]

RIN 2133-AB68

Maintenance and Repair Reimbursement Pilot Program

AGENCY: Maritime Administration, DOT.

ACTION: Notice of opening of reply comment period.

SUMMARY: The Maritime Administration (MARAD) is amending its regulations governing its pilot program for the reimbursement of costs of qualified maintenance and repair (M&R) of Maritime Security Program (MSP) vessels performed in United States shipyards. Under Public Law 109-163, the Secretary of Transportation, acting through the Maritime Administrator, is directed to implement regulations that, among other things, replace MARAD's voluntary M&R reimbursement program with a mandatory system.

The notice of proposed rulemaking for this action was published in the Federal Register on February 8, 2006 (71 FR 6438). Several of the comments received argued that MARAD lacks authority to unilaterally add to existing MSP agreements the added obligation on the part of the MSP contractor to enter into an M&R Pilot Program agreement. In order to have a full airing of this fundamental issue, MARAD is hereby giving notice that we have decided to open a reply comment period for this rulemaking. Reply comments may address the issue highlighted above or any other issue raised in the original set of comments received in this docket.

DATES: Reply comments are due September 22, 2006.

ADDRESSES: You may submit reply comments [identified by DOT DMS Docket Number MARAD 2006-23804] by any of the following methods:

• Web site: http://dms.dot.gov. Follow the instructions for submitting comments on the DOT electronic docket site.

• Mail: Docket Management Facility; U.S. Department of Transportation, 400 7th St., SW., Nassif Building, Room PL-401, Washington, DC 20590-001.

• Hand Delivery: Room PL-401 on the plaza level of the Nassif Building, 400 7th St., SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. Note that all comments received will be posted without change to http://dms.dot.gov including any personal information provided. Please see the Privacy Act heading below.

Docket: For access to the docket to read background documents or comments received, go to http://dms.dot.gov at any time or to Room PL-401 on the plaza level of the Nassif Building, 400 7th St., SW., Washington, DC, between 9 a.m. and 5 p.m., Monday through Friday, except Federal Holidays.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Dated: August 17, 2006.
By order of the Maritime Administrator.
Murray A. Bloom,
Acting Secretary, Maritime Administration.

[FR Doc. E6-13971 Filed 8-22-06; 8:45 am]

BILLING CODE 4910-81-P